FEDERAL RESERVE SYSTEM

Formations of, Acquisitions by, and Mergers of Bank Holding Companies; Correction

This notice corrects a notice (FR Doc. 01-15731) published on page 33543 of the issue for Friday, June 22, 2001.

Under the Federal Reserve Bank of Minneapolis heading, the entry for First Western Bancorp., Inc., Huron, South Dakota, is revised to read as follows:

A. Federal Reserve Bank of Minneapolis (JoAnne F. Lewellen, Assistant Vice President) 90 Hennepin Avenue, Minneapolis, Minnesota 55480-0291:

1. First Western Bancorp, Inc.,Huron, South Dakota; to acquire 74.8 percent of the voting shares American Bank Shares, Inc., Rapid City, South Dakota, and thereby indirectly acquire American State Bank of Rapid City, Rapid City, South Dakota.

Comments on this application must be received by July 19, 2001.

Board of Governors of the Federal Reserve System, July 5, 2001.
Robert deV. Frierson,
Associate Secretary of the Board.

[FR Doc. 01-17264 Filed 7-10-01; 8:45 am]

BILLING CODE 6210-01-S